NUCLEAR REGULATORY COMMISSION

[NRC-2016-0006]

Operator Licensing Examination Standards for Power Reactors

AGENCY: Nuclear Regulatory Commission.

ACTION: NUREG; issuance.

SUMMARY: The U.S. Nuclear Regulatory Commission (NRC) is issuing NUREG-1021, Revision 11, “Operator Licensing Examination Standards for Power Reactors.”

DATES: Revision 11 of NUREG-1021 will be applicable to operator licensing examinations that are administered 6 months after the date of this notice. After this date, facility licensees that elect to prepare, proctor, and grade written examinations and/or prepare operating tests must do so based on the guidance in Revision 11 of NUREG-1021, unless the NRC has reviewed and approved the facility licensee's alternative examination procedures. This guidance may be used for examinations administered at an earlier date if a licensee requests, and the NRC grants, an exemption to allow use of this NUREG at an earlier date.

ADDRESSES: Please refer to Docket ID NRC-2016-0006 when contacting the NRC about the availability of information regarding this document. You may obtain publicly-available information related to this document using any of the following methods:

• Federal Rulemaking Web site: Go to http://www.regulations.gov and search for Docket ID NRC-2016-0006. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. NUREG-1021, Revision 11, is available in ADAMS under Accession No. ML17038A432. The NUREG is also accessible on the NRC's public Web site in the Documents Collection section of the NRC Library: (https://www.nrc.gov/reading-rm/doc-collections/nuregs/staff/sr1021/r11/).

• NRC's PDR: You may examine and purchase copies of public documents at the NRC's PDR, O1-F21, One White Flint North, 11555 Rockville Pike, Rockville, Maryland 20852.

FOR FURTHER INFORMATION CONTACT: Timothy Kolb, Office of Nuclear Reactor Regulation, telephone: 301-415-0783; email: Timothy.Kolb@nrc.gov; or Maurin Scheetz, Office of New Reactors, telephone: 301-415-2758; email: Maurin.Scheetz@nrc.gov. Both are staff members of the U.S. Nuclear Regulatory Commission, Washington, DC 20555-0001.

SUPPLEMENTARY INFORMATION:

I. Discussion

NUREG-1021, Revision 11 provides policy and guidance for the development, administration, and grading of examinations used for licensing operators at nuclear power plants. This NUREG also provides guidance for maintaining operators' licenses, and for the NRC to conduct requalification examinations when necessary.

This NUREG is a rule as defined in the Congressional Review Act (5 U.S.C. 801-808). However, the Office of Management and Budget has not found it to be a major rule as defined in the Congressional Review Act.

Revision 11 of NUREG-1021 replaces Revision 10 of NUREG 1021. Draft NUREG-1021, Revision 11 was published in the Federal Register for public comment on February 5, 2016 (81 FR 6301) with a 45 day comment period. The NRC extended the comment period on Draft NUREG-1021, Revision 11 on March 3, 2016 (81 FR 11302) until April 5, 2016. The NRC received 314 public comments from private citizens and industry organizations. The NRC staff's evaluation and resolution of the public comments are documented in ADAMS under Accession No. ML17038A055.

Dated at Rockville, Maryland, this 8 day of February, 2017.
For the Nuclear Regulatory Commission.
Nancy Salgado,
Chief, Operator Licensing and Training Branch, Division of Inspection and Regional Support, Office of Nuclear Reactor Regulation.

[FR Doc. 2017-03035 Filed 2-14-17; 8:45 am]

BILLING CODE 7590-01-P